DEPARTMENT OF COMMERCE

National Oceanic and Atmospheric Administration

[I.D. 040403A]

Advisory Committee to the U.S. Section to the International Commission for the Conservation of Atlantic Tunas (ICCAT); Spring Species Working Group Workshop

AGENCY: National Marine Fisheries Service (NMFS), National Oceanic and Atmospheric Administration (NOAA), Commerce.

ACTION: Notice of public meeting.

SUMMARY: The Advisory Committee to the U.S. Section to ICCAT announces its spring meeting with its Species Working Group Technical Advisors, April 30-May 1, 2003.

DATES: The open sessions of the Committee meeting will be held on April 30, 2003, from 9:30 a.m. to 12:30 p.m., and on May 1, 2003, from 10:30 a.m. to 1:30 p.m. Closed sessions will be held on April 30, 2003, from 1:45 p.m. to approximately 6 p.m., and on May 1, 2003, from 8:30 a.m. to 10:30 a.m.

ADDRESSES: The meeting will be held at the Hilton Hotel Silver Spring, 8727 Colesville Road, Silver Spring, MD 20910.

FOR FURTHER INFORMATION CONTACT: Kim Blankenbeker at (301) 713-2276.

SUPPLEMENTARY INFORMATION: The Advisory Committee to the U.S. Section to ICCAT will meet in two open sessions to receive and discuss information on (1) the 2002 ICCAT meeting results and U.S. implementation of ICCAT decisions; (2) 2003 ICCAT and NMFS research and monitoring activities; (3) 2003 Commission activities; (4) results of the Committee's Species Working Group deliberations; and (5) Advisory Committee operational issues. The public will have access to the open sessions of the meeting, but there will be no opportunity for public comment.

The Advisory Committee will go into executive session during the afternoon of April 30, 2003, to discuss sensitive information relating to (1) post ICCAT 2002 discussions and negotiations, including upcoming ICCAT working group meetings on trade and on monitoring and compliance; (2) the Atlantic Tunas Convention Act required consultation on the identification of countries that are diminishing the effectiveness of ICCAT; and (3) other matters relating to the international management of ICCAT species. In addition, the Committee will meet in its Species Working Groups for a portion of the afternoon of April 30 and part of the morning of May 1, 2003. These sessions are not open to the public, but the results of the deliberations of the Species Working Groups will be reported to the full Advisory Committee during the Committee's afternoon open session on May 1.

Special Accommodations

The meeting location is physically accessible to people with disabilities. Requests for sign language interpretation or other auxiliary aids should be directed to Kim Blankenbeker at (301) 713-2276 at least 5 days prior to the meeting date.

Dated: April 8, 2003.
Richard W. Surdi,
Acting Deputy Director, Office of Sustainable Fisheries, National Marine Fisheries Service.

[FR Doc. 03-8934 Filed 4-10-03; 8:45 am]

BILLING CODE 3510-22-S